DEPARTMENT OF HEALTH AND HUMAN SERVICES

Substance Abuse and Mental Health Services Administration

Center for Substance Abuse Treatment; Notice of Meeting

Pursuant to Public Law 92-463, notice is hereby given of a meeting of the Center for Substance Abuse Treatment (CSAT) National Advisory Council to be held in May 2001.

A portion of the meeting will be open and include discussion of the Center's policy issues and current administrative, legislative, and program developments. Status reports on OPIOID Accreditation, and CSAT's Initiative for Homeless Substance Abusers will be presented. Other presentations include: The Faith Initiative; 42 CFR part 2 and Child Protective Services; Parity Coalition; and Recovery Month. Council members will give updates on SAMHSA's Subcommittees, and discuss, “Substance Abuse and the Consumer.” Public comments are welcome. Please communicate with the individual listed as contact below for guidance. If anyone needs special accommodations and for persons with disabilities, please notify the contact listed below.

The meeting will also include the review, discussion, and evaluation of grant applications. Therefore a portion of the meeting will be closed to the public as determined by the Administrator, SAMHSA, in accordance with Title 5 U.S.C. 552b(c)(4) and (6) and 5 U.S.C. App. 2, 10(d).

A summary of the meeting and roster of council members may be obtained from: Ms. Cynthia Graham, CSAT, National Advisory Council, Rockwall II Building, Suite 618, 5600 Fishers Lane, Rockville, Maryland 20857, Telephone: (301) 443-8923.

Substantive program information may be obtained from the contact whose name and telephone number is listed below.

Committee Name: Center for Substance Abuse Treatment National Advisory Council.

Meeting Date: Thursday, May 24, 2001.

Place: Gaithersburg Marriott Washingtonian Center (at Rio), 9751 Washingtonian Boulevard, Gaithersburg, Maryland.

Closed: May 24, 2001—8:30 a.m.—9 a.m.

Open: May 24, 2001—9 a.m.—4:30 p.m.

Contact: Cynthia Graham, M.S., Public Health Analyst, Telephone: (301) 443-8923 and FAX: (301) 480-6077.

This notice is being published less than 15 days prior to the meeting due to the urgent need to meet timing limitations imposed by the review and funding cycle.

Dated: May 9, 2001.
Toian Vaughn,
Executive Secretary/Committee Management Officer, Substance Abuse and Mental Health Services Administration.

[FR Doc. 01-12097 Filed 5-14-01; 8:45 am]

BILLING CODE 4162-20-P